DEPARTMENT OF ENERGY

Federal Energy Regulatory Commission

Combined Notice of Filings #1

Take notice that the Commission received the following exempt wholesale generator filings:

Docket Numbers: EG16-157-000.

Applicants: Deerfield Wind Energy, LLC.

Description: Notice of Self-Certification of Exempt Wholesale Generator Status of Deerfield Wind Energy, LLC.

Filed Date: 9/22/16.

Accession Number: 20160922-5049.

Comments Due: 5 p.m. ET 10/13/16.

Take notice that the Commission received the following electric rate filings:

Docket Numbers: ER15-1943-001.

Applicants: Southwest Power Pool, Inc.

Description: Compliance filing: Missouri River Energy Services Formula Rate Compliance Filing to be effective 1/1/2017.

Filed Date: 9/22/16.

Accession Number: 20160922-5139.

Comments Due: 5 p.m. ET 10/13/16.

Docket Numbers: ER16-829-000.

Applicants: Southwest Power Pool, Inc.

Description: Report Filing: Refund Report in ER16-829—Bylaws Section 8.4 Revisions to be effective N/A.

Filed Date: 9/22/16.

Accession Number: 20160922-5038.

Comments Due: 5 p.m. ET 10/13/16.

Docket Numbers: ER16-2340-001.

Applicants: Emera Energy Services Subsidiary No. 6 LLC.

Description: Tariff Amendment: Errata to be effective 7/1/2016.

Filed Date: 9/22/16.

Accession Number: 20160922-5106.

Comments Due: 5 p.m. ET 10/13/16.

Docket Numbers: ER16-2341-001.

Applicants: Emera Energy Services Subsidiary No. 7 LLC.

Description: Tariff Amendment: Errata to be effective 7/1/2016.

Filed Date: 9/22/16.

Accession Number: 20160922-5102.

Comments Due: 5 p.m. ET 10/13/16.

Docket Numbers: ER16-2342-001.

Applicants: Emera Energy Services Subsidiary No. 8 LLC.

Description: Tariff Amendment: Errata to be effective 7/1/2016.

Filed Date: 9/22/16.

Accession Number: 20160922-5101.

Comments Due: 5 p.m. ET 10/13/16.

Docket Numbers: ER16-2343-001.

Applicants: Emera Energy Services Subsidiary No. 9 LLC.

Description: Tariff Amendment: Errata to be effective 7/1/2016.

Filed Date: 9/22/16.

Accession Number: 20160922-5098.

Comments Due: 5 p.m. ET 10/13/16.

Docket Numbers: ER16-2344-001.

Applicants: Emera Energy Services Subsidiary No. 10 LLC.

Description: Tariff Amendment: Errata to be effective 7/1/2016.

Filed Date: 9/22/16.

Accession Number: 20160922-5097.

Comments Due: 5 p.m. ET 10/13/16.

Docket Numbers: ER16-2347-001.

Applicants: Bridgeport Energy LLC.

Description: Tariff Amendment: Errata to be effective 7/1/2016.

Filed Date: 9/22/16.

Accession Number: 20160922-5109.

Comments Due: 5 p.m. ET 10/13/16.

Docket Numbers: ER16-2376-000; ER16-2377-000.

Applicants: FPL Energy Marcus Hook, L.P.

Description: Supplement to August 4, 2016 FPL Energy Marcus Hook, L.P. and FPL Energy MH50, L.P. tariff filings (Reactive Power Capability Testing Forms).

Filed Date: 9/22/16.

Accession Number: 20160922-5137.

Comments Due: 5 p.m. ET 10/13/16.

Docket Numbers: ER16-2455-001.

Applicants: Emera Energy Services Subsidiary No. 11 LLC.

Description: Tariff Amendment: Errata to be effective 10/22/2016.

Filed Date: 9/22/16.

Accession Number: 20160922-5096.

Comments Due: 5 p.m. ET 10/13/16.

Docket Numbers: ER16-2456-001.

Applicants: Emera Energy Services Subsidiary No. 12 LLC.

Description: Tariff Amendment: Errata to be effective 10/22/2016.

Filed Date: 9/22/16.

Accession Number: 20160922-5095.

Comments Due: 5 p.m. ET 10/13/16.

Docket Numbers: ER16-2457-001.

Applicants: Emera Energy Services Subsidiary No. 13 LLC.

Description: Tariff Amendment: Errata to be effective 10/22/2016.

Filed Date: 9/22/16.

Accession Number: 20160922-5093.

Comments Due: 5 p.m. ET 10/13/16.

Docket Numbers: ER16-2458-001.

Applicants: Emera Energy Services Subsidiary No. 14 LLC.

Description: Tariff Amendment: Errata to be effective 10/22/2016.

Filed Date: 9/22/16.

Accession Number: 20160922-5092.

Comments Due: 5 p.m. ET 10/13/16.

Docket Numbers: ER16-2459-001.

Applicants: Emera Energy Services Subsidiary No. 15 LLC.

Description: Tariff Amendment: Errata to be effective 10/22/2016.

Filed Date: 9/22/16.

Accession Number: 20160922-5090.

Comments Due: 5 p.m. ET 10/13/16.

Docket Numbers: ER16-2496-001.

Applicants: CXA Sundevil I, Inc.

Description: Tariff Amendment: Amendment to Application for MBR to be effective 9/30/2016.

Filed Date: 9/22/16.

Accession Number: 20160922-5088.

Comments Due: 5 p.m. ET 10/13/16.

Docket Numbers: ER16-2497-001.

Applicants: CXA Sundevil II, Inc.

Description: Tariff Amendment: Amendment to Application for MBR to be effective 9/30/2016.

Filed Date: 9/22/16.

Accession Number: 20160922-5089.

Comments Due: 5 p.m. ET 10/13/16.

Docket Numbers: ER16-2639-000.

Applicants: PJM Interconnection, L.L.C.

Description: § 205(d) Rate Filing: Service Agreement Nos. 3069 and 3070; Queue Nos. V4-046/V4-047 and V4-048/V4-049 to be effective 8/22/2016.

Filed Date: 9/21/16.

Accession Number: 20160921-5141.

Comments Due: 5 p.m. ET 10/12/16.

Docket Numbers: ER16-2642-000.

Applicants: Southern California Edison Company.

Description: § 205(d) Rate Filing: DSA Mojave Water Agency Deep Creek Hydroelectric Project to be effective 11/22/2016.

Filed Date: 9/22/16.

Accession Number: 20160922-5072.

Comments Due: 5 p.m. ET 10/13/16.

Docket Numbers: ER16-2643-000.

Applicants: Panda Stonewall LLC.

Description: Baseline eTariff Filing: FERC Electric Tariff, Volume No. 1 (Market-Based Rate Application) to be effective 11/21/2016.

Filed Date: 9/22/16.

Accession Number: 20160922-5077.

Comments Due: 5 p.m. ET 10/13/16.

Docket Numbers: ER16-2644-000.

Applicants: Northern Indiana Public Service Company.

Description: § 205(d) Rate Filing: Contribution in Aid of Construction Agreement to be effective 9/18/2016.

Filed Date: 9/22/16.

Accession Number: 20160922-5086.

Comments Due: 5 p.m. ET 10/13/16.

Docket Numbers: ER16-2646-000.

Applicants: El Paso Electric Company.

Description: § 205(d) Rate Filing: Concurrence of EPE to APS Service Agreement No. 284 to be effective 10/31/2016.

Filed Date: 9/22/16.

Accession Number: 20160922-5111.

Comments Due: 5 p.m. ET 10/13/16.

Docket Numbers: ER16-2647-000.

Applicants: Puget Sound Energy, Inc.

Description: Initial rate filing: BPA NITSA & NOA to be effective 9/1/2016.

Filed Date: 9/22/16.

Accession Number: 20160922-5121.

Comments Due: 5 p.m. ET 10/13/16.

Docket Numbers: ER16-2648-000.

Applicants: Niagara Mohawk Power Corporation, New York Independent System Operator, Inc.

Description: Tariff Cancellation: Notice of cancellation SA 1949 among NMPC and EDGE Corporation to be effective 11/22/2016.

Filed Date: 9/22/16.

Accession Number: 20160922-5160.

Comments Due: 5 p.m. ET 10/13/16.

Docket Numbers: ER16-2649-000.

Applicants: Duke Energy Progress, LLC, Duke Energy Carolinas, LLC.

Description: § 205(d) Rate Filing: Loss Factor Filing Amendment to be effective 8/1/2016.

Filed Date: 9/22/16.

Accession Number: 20160922-5165.

Comments Due: 5 p.m. ET 10/13/16.

Docket Numbers: ER16-2650-000.

Applicants: Niagara Mohawk Power Corporation, New York Independent System Operator, Inc.

Description: Tariff Cancellation: Notice of cancellation SA 1951 between NYISO, NMPC and NYPA to be effective 11/22/2016.

Filed Date: 9/22/16.

Accession Number: 20160922-5168.

Comments Due: 5 p.m. ET 10/13/16.

Take notice that the Commission received the following electric securities filings:

Docket Numbers: ES16-55-000.

Applicants: Consolidated Edison Company of New York, Inc.

Description: Application of Consolidated Edison Company of New York, Inc. for an order pursuant to Section 204 of the Federal Power Act.

Filed Date: 9/21/16.

Accession Number: 20160921-5184.

Comments Due: 5 p.m. ET 10/12/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at:

http://www.ferc.gov/docs-filing/efiling/filing-req.pdf. For other information, call (866) 208-3676 (toll free). For TTY, call (202) 502-8659.

Dated: September 22, 2016.
Nathaniel J. Davis, Sr.,
Deputy Secretary.

[FR Doc. 2016-23444 Filed 9-27-16; 8:45 am]

BILLING CODE 6717-01-P